DEPARTMENT OF TRANSPORTATION

Coast Guard

[USCG 2002-10298]

Double Hull Standards for Vessels Carrying Oil in Bulk; U.S. Position on the Amendment of International Standards for the Phase-Out of Existing Single Hull Tank Vessels

AGENCY: Coast Guard, DOT.

ACTION: Notice.

SUMMARY: This notice is to inform the public that on February 12, 2002, the U.S. Embassy in London deposited a declaration with the International Maritime Organization (IMO) stating that the express approval of the U.S. Government will be necessary before the revised Regulation 13G of the International Convention for the Prevention of Pollution from Ships (MARPOL 73/78) would enter into force for the U.S. In this declaration, the U.S. cited specific technical differences between the revised MARPOL Regulation for new and existing tankers and OPA 90.

FOR FURTHER INFORMATION CONTACT: Mr. Mike Jendrossek, Project Manager, Vessel and Facility Operating and Environmental Standards Division (G-MSO-2), U.S. Coast Guard, 2100 Second Street SW., Washington, DC 20593-0001, telephone 202-267-0836.

SUPPLEMENTARY INFORMATION: On April 27, 2001, The IMO adopted amendments to Regulation 13G of Annex I to MARPOL 73/78. These amendments, which accelerate the phase-out schedule adopted by the IMO on March 6, 1992, for some classes of single-hull tank vessels, will be deemed accepted March 1, 2002, unless prior to that date, not less than one-third of the Parties or Parties the combined merchant fleets of which constitute not less than 50 per cent of the gross tonnage of the world's merchant fleet, have communicated to the Organization their objection to the amendments. It is unlikely that such objections will be raised. The U.S. will not object but has taken a position with the IMO that the express approval of the U.S. Government would be necessary before this amendment will be enforced by the U.S. As was the case in 1993, the U.S. maintains that the Oil Pollution Act of 1990 (OPA 90) continues to be the more stringent requirement.

The Coast Guard held a public meeting on September 25, 2001, (66 FR 42170) to discuss the amendment of the international standards that were developed and adopted by the IMO in April 2001. The public meeting was used to collect comments and information from the public and industry to develop a final U.S. position to be formally presented to IMO on this matter. The Coast Guard encouraged interested parties to attend the meeting and submit comments for discussion during the meeting. Attendees at the meeting were unanimously in favor of the U.S. retaining the phase-out schedule under OPA 90. No objection was raised to the U.S. intention to inform the IMO that express approval will be required before Regulation 13G becomes effective for the U.S. Additionally, the Coast Guard sought written comments from any party who was unable to attend the public meeting in the same Federal Register Notice (66 FR 42170). The docket received ten letters from individuals, associations and societies, and industry providing specific comments on this subject. These letters can be viewed by contacting Ms. Dorothy Beard, Chief, Dockets, Department of Transportation, telephone 202-366-5194. You may also find this docket (USCG 2001-10298) on the Internet at http://dms.dot.gov. Of the ten letters received, nine supported the U.S. retaining the phase-out schedule under OPA 90. The one dissenting comment urged the United States to support the amended regulation 13G and adopt use of The American Under Pressure System as an alternative to double-hulls. The Coast Guard disagrees; this issue was previously considered during the development of OPA 90 and not adopted.

Dated: February 12, 2002.
Howard L. Hime,
Acting Director of Standards, Marine Safety and Environmental Protection.

[FR Doc. 02-4061 Filed 2-14-02; 1:18 pm]

BILLING CODE 4910-15-U